PACIFIC NORTHWEST ELECTRIC POWER AND CONSERVATION PLANNING COUNCIL

Amended Columbia River Basin Fish and Wildlife Program

AGENCY: Pacific Northwest Electric Power and Conservation Planning Council (Northwest Power and Conservation Council), an interstate compact agency organized under the authority of the Pacific Northwest Electric Power Planning and Conservation Act of 1980, 16 U.S.C. 839 et seq. (Northwest Power Act).

ACTION: Notice of final action adopting the management plan elements of the Blackfoot River Subbasin Plan into the Council's Columbia River Basin Fish and Wildlife Program.

SUMMARY: Pursuant to Section 4(h) of the Northwest Power Act, the Council has amended its Columbia River Basin Fish and Wildlife Program to add the Blackfoot River Subbasin Plan. The program as amended may be found on the Council's Web site at http://www.nwcouncil.org/fw/program and then, for the subbasin plan elements and relevant decision documents in particular, at http://www.nwcouncil.org/fw/subbasinplanning/Default.htm. Further information and an explanation of this amendment process may be found in the documents on that page or by contacting the Northwest Power and Conservation Council at (503) 222-5161 or toll free (800) 452-5161.

Stephen L. Crow,
Executive Director.

[FR Doc. 2011-5758 Filed 3-11-11; 8:45 am]

BILLING CODE P